DEPARTMENT OF ENERGY

Federal Energy Regulatory Commission

Combined Notice of Filings # 1

Take notice that the Commission received the following electric rate filings:

Docket Numbers: ER23-2334-003.

Applicants: Southwest Power Pool, Inc.

Description: Tariff Amendment: 2198R34 Kansas Power Pool NITSA NOA to be effective 9/1/2023.

Filed Date: 10/12/23.

Accession Number: 20231012-5008.

Comment Date: 5 p.m. ET 11/2/23.

Docket Numbers: ER23-2407-000.

Applicants: Strauss Wind, LLC.

Description: Second Supplement to July 14, 2023, Strauss Wind, LLC tariff filing.

Filed Date: 10/2/23.

Accession Number: 20231002-5387.

Comment Date: 5 p.m. ET 10/19/23.

Docket Numbers: ER23-2443-001.

Applicants: Midcontinent Independent System Operator, Inc.

Description: Tariff Amendment: 2023-10-12_SA 4126 Deficiency Response METC-Wolverine-MPPA-Eagle GIA (J1389) to be effective 9/19/2023.

Filed Date: 10/12/23.

Accession Number: 20231012-5100.

Comment Date: 5 p.m. ET 11/2/23.

Docket Numbers: ER23-2749-000.

Applicants: AEUG Union Solar, LLC.

Description: Supplement to August 31, 2023 AEUG Union Solar, LLC tariff filing.

Filed Date: 10/10/23.

Accession Number: 20231010-5398.

Comment Date: 5 p.m. ET 10/31/23.

Docket Numbers: ER24-76-000.

Applicants: PJM Interconnection, L.L.C.

Description: § 205(d) Rate Filing: Revised SA No. 1313 NITSA Among PJM and Central Virginia Electric Cooperative to be effective 12/1/2023.

Filed Date: 10/12/23.

Accession Number: 20231012-5000.

Comment Date: 5 p.m. ET 11/2/23.

Docket Numbers: ER24-77-000.

Applicants: Midcontinent Independent System Operator, Inc.

Description: § 205(d) Rate Filing: 2023-10-12_SA 2523 ITC-Pheasant Run 5th Rev GIA (J075 J466) to be effective 10/6/2023.

Filed Date: 10/12/23.

Accession Number: 20231012-5055.

Comment Date: 5 p.m. ET 11/2/23.

Docket Numbers: ER24-79-000.

Applicants: New York State Electric & Gas Corporation, New York Independent System Operator, Inc.

Description: § 205(d) Rate Filing: New York State Electric & Gas Corporation submits tariff filing per 35.13(a)(2)(iii: NYISO-NYSEG Joint 205: Amended SGIA for Scipio Solar Project SA2527 (CEII) to be effective 9/27/2023.

Filed Date: 10/12/23.

Accession Number: 20231012-5075.

Comment Date: 5 p.m. ET 11/2/23.

Docket Numbers: ER24-80-000.

Applicants: Essential Power Newington, LLC.

Description: § 205(d) Rate Filing: IROL-CIP Rate Schedule to be effective 12/11/2023.

Filed Date: 10/12/23.

Accession Number: 20231012-5085.

Comment Date: 5 p.m. ET 11/2/23.

Docket Numbers: ER24-81-000.

Applicants: Shady Oaks Wind 2, LLC.

Description: § 205(d) Rate Filing: Rate Schedule FERC No. 2—Reactive Supply Service—Expedited to be effective 10/13/2023.

Filed Date: 10/12/23.

Accession Number: 20231012-5102.

Comment Date: 5 p.m. ET 11/2/23.

Docket Numbers: ER24-82-000.

Applicants: Southwest Power Pool, Inc.

Description: § 205(d) Rate Filing: Tariff Clean-up of Tri-State—Effective 20210202, 20210601, 20210615 to be effective 2/2/2021.

Filed Date: 10/12/23.

Accession Number: 20231012-5109.

Comment Date: 5 p.m. ET 11/2/23.

Docket Numbers: ER24-83-000.

Applicants: Robison Energy (Commercial) LLC.

Description: Tariff Amendment: Notice of Cancellation of Market Based Rate Tariff to be effective 10/13/2023.

Filed Date: 10/12/23.

Accession Number: 20231012-5116.

Comment Date: 5 p.m. ET 11/2/23.

Take notice that the Commission received the following electric securities filings:

Docket Numbers: ES24-6-000; ES24-7-000; ES24-8-000.

Applicants: AEP Texas Inc., Southwestern Electric Power Company, Wheeling Power Company, AEP Texas Inc., Southwestern Electric Power Company, Wheeling Power Company, AEP Texas Inc., Southwestern Electric Power Company, Wheeling Power Company.

Description: Application Under Section 204 of the Federal Power Act for Authorization to Issue Securities of AEP Texas Inc., et al.

Filed Date: 10/10/23.

Accession Number: 20231010-5400.

Comment Date: 5 p.m. ET 10/31/23.

Take notice that the Commission received the following foreign utility company status filings:

Docket Numbers: FC24-1-000.

Applicants: Windpark Duben Süd GmbH & Co. KG, Windpark Karche Zwei GmbH & Co. KG.

Description: Windpark Duben Süd GmbH & Co. KG, et al. submits Notice of Self-Certification of Foreign Utility Company Status.

Filed Date: 10/12/23.

Accession Number: 20231012-5054.

Comment Date: 5 p.m. ET 11/2/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 12, 2023.
Debbie-Anne A. Reese,
Deputy Secretary.

[FR Doc. 2023-22990 Filed 10-17-23; 8:45 am]

BILLING CODE 6717-01-P